DEPARTMENT OF COMMERCE

International Trade Administration

Notice of Scope Rulings

AGENCY: Enforcement and Compliance, International Trade Administration, Department of Commerce.

DATES: Applicable February 24, 2025.

SUMMARY: The U.S. Department of Commerce (Commerce) hereby publishes a list of scope rulings and circumvention determinations made during the period October 1, 2024, through December 31, 2024. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: (202) 482-1560.

SUPPLEMENTARY INFORMATION:

Background

Commerce regulations provide that it will publish in the Federal Register a list of scope rulings on a quarterly basis.¹ Our most recent notification of scope rulings was published on December 20, 2024.² This current notice covers all scope rulings made by Enforcement and Compliance between October 1, 2024, and December 31, 2024.

¹ See 19 CFR 351.225(o).

² See Notice of Scope Rulings, 89 FR 104087 (December 20, 2024).

Final Scope Rulings Made October 1, 2024, Through December 31, 2024

People's Republic of China (China)

A-570-108 and C-570-109: Ceramic Tile From China

Requestor: Landscape Associates Inc. Fourteen roof tiles imported by Landscape Associates Inc. and imported together as a pagoda roof kit are not covered by the scope of the antidumping (AD) duty and countervailing duty (CVD) orders on ceramic tile from China because roof tiles are not covered by the scope of the orders. In addition, decorative board brick is covered by the scope of the AD and CVD orders on ceramic tile from China because it falls within the definition of in-scope merchandise: November 26, 2024.

A-570-088 and C-570-089: Certain Steel Racks and Parts Thereof From China

Requestor: Aladdin Manufacturing Corp. and Mohawk Home (collectively, Mohawk). Merchandising display and components thereof are not covered by the scope of the AD and CVD orders on certain steel racks and parts thereof from China because, based on the plain language of the order, the merchandise does not meet all the required physical characteristics. Mohawk's merchandise fails to meet the overall depth of each steel roll-formed horizontal load bearing member exceeding two inches requirement. December 3, 2024.

Notification to Interested Parties

Interested parties are invited to comment on the completeness of this list of completed scope inquiries and scope/circumvention inquiry combinations made during the period October 1, 2024, through December 31, 2024. Any comments should be submitted to the Deputy Assistant Secretary for AD/CVD Operations, Enforcement and Compliance, International Trade Administration, via email to CommerceCLU@trade.gov.

This notice is published in accordance with 19 CFR 351.225(o).

Dated: February 18, 2025.
Scot Fullerton,
Acting Deputy Assistant Secretary for Antidumping and Countervailing Duty Operations.

[FR Doc. 2025-02989 Filed 2-21-25; 8:45 am]

BILLING CODE 3510-DS-P